DEPARTMENT OF THE INTERIOR

Fish and Wildlife Service

50 CFR Parts 25 and 32

[Docket No. FWS-HQ-NWRS-2013-0074; FXRS12650900000-134-FF09R20000]

RIN 1018-AZ87

2013-2014 Refuge-Specific Hunting and Sport Fishing Regulations

Correction

In rule document 2014-05214, appearing on pages 14810 through 14844 in the issue of Monday, March 17, 2014, make the following correction:

§ 32.53 North Dakota. [Amended]

On page 14837, in the first column, below the paragraph that reads “9. We prohibit the use of horses, mules, or similar livestock on the refuge during all hunting seasons.” insert the following:

10. We prohibit accessing refuge lands from refuge waters.

C. Big Game Hunting. We allow deer hunting on designated areas of the refuge in accordance with State regulations and subject to the following conditions:

1. We open the refuge daily from 5 a.m. to 10 p.m.

2. We only allow the use of portable tree stands and ground blinds. We prohibit leaving stands and blinds overnight (see § 27.93 of this chapter) on the refuge. Tree stands cannot injure trees. Screw-in steps, bolts, nails, wire, or other objects that penetrate the bark of the tree cannot be used (see § 32.2(i)).

3. We prohibit entry to the refuge before 12 p.m. (noon) on the first day of the respective bow, gun, or muzzleloader deer hunting seasons.

4. We prohibit the use of flagging, trail markers, paint, reflective tacks, or other types of markers (see § 27.93 of this chapter).

5. We prohibit the use of trail cameras and other electronic equipment.

6. Conditions B7 through B10 apply.

* * * * *

J. Clark Salyer National Wildlife Refuge

A. Migratory Game Bird Hunting. * * *

2. We allow the use of dogs for hunting and retrieving game birds. Dogs must be under direct control of the hunter (see § 26.21(b) of this chapter).

* * * * *

B. Upland Game Hunting. We allow hunting of ruffed and sharp-tailed grouse, Hungarian partridge, turkey, ring-necked pheasant, and fox on designated areas of the refuge in accordance with State regulations and subject to the following conditions:

* * * * *

2. We allow hunting for sharp-tailed grouse, Hungarian partridge, and ring-necked pheasant on nine designated Public Hunting Areas as delineated on the refuge hunting brochure map available at the refuge headquarters or posted on refuge information boards and/or kiosks.

3. We allow hunting for sharp-tailed grouse, ruffed grouse, Hungarian partridge, and turkey south of the Upham-Willow City Road in accordance with State seasons.

4. We open to hunting for sharp-tailed grouse, Hungarian partridge, and ring-necked pheasant north of the Willow-Upham road on the day following the close of the regular firearm deer season.

5. We prohibit hunting the area around the refuge headquarters, buildings, shops, and residences. We post these areas with “Closed to Hunting” signs.

6. We open the refuge to fox hunting on the day following the close of the regular firearm deer season. Fox hunting on the refuge closes March 31.

7. Hunters may possess only approved nontoxic shot for all upland game hunting, including turkey, as identified in § 20.21(j) of this chapter.

8. We prohibit the use of snowmobiles, all-terrain vehicles (ATVs), off-highway vehicles (OHVs), utility terrain vehicles (UTVs), bicycles, or similar vehicles on the refuge.

9. We prohibit the use of horses, mules, or similar livestock on the refuge during all hunting seasons.

[FR Doc. C1-2014-05214 Filed 4-1-14; 8:45 am]

BILLING CODE 1505-01-D